SMALL BUSINESS ADMINISTRATION

[Declaration of Disaster #P078]

State of Delaware

As a result of the President's major disaster declaration for Public Assistance on November 15, 2004, the U.S. Small Business Administration is activating its disaster loan program only for private non-profit organizations that provide essential services of a governmental nature. I find that New Castle County in the State of Delaware constitutes a disaster area due to damages caused by severe storms, tornadoes, and flooding from the remnants of Hurricane Jeanne occurring on September 28, 2004 and continuing through October 2, 2004. Applications for loans for physical damage as a result of this disaster may be filed until the close of business on January 14, 2005 at the address listed below or other locally announced locations: U.S. Small Business Administration, Disaster Area 1 Office, 360 Rainbow Blvd., South, 3rd Floor, Niagara Falls, NY 14303.

The interest rates are:

| Percent
For Physical Damage:
Non-Profit Organizations Without Credit Available Elsewhere | 2.900
Non-Profit Organizations With Credit Available Elsewhere | 4.875

The number assigned to this disaster for physical damage is P07806.

(Catalog of Federal Domestic Assistance Program Nos. 59008).
Dated: November 19, 2004.
Allan I. Hoberman,
Acting Associate Administrator for Disaster Assistance.

[FR Doc. 04-26572 Filed 12-1-04; 8:45 am]

BILLING CODE 8025-01-P